DEPARTMENT OF COMMERCE

Foreign-Trade Zones Board

[Order No. 2116]

Reorganization of Foreign-Trade Zone 158 (Expansion of Service Area); Under Alternative Site Framework; Vicksburg/Jackson, Mississippi

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR Sec. 400.2(c)) as an option for the establishment or reorganization of zones;

Whereas, the Greater Mississippi Foreign-Trade Zone, Inc., grantee of Foreign-Trade Zone 158, submitted an application to the Board (FTZ Docket B-18-2021, docketed March 9, 2021) for authority to expand the service area of the zone to include Grenada and Panola Counties, Mississippi, as described in the application, adjacent to the Memphis (Tennessee) Customs and Border Protection port of entry;

Whereas, notice inviting public comment was given in the Federal Register (86 FR 14307, March 15, 2021) and the application has been processed pursuant to the FTZ Act and the Board's regulations; and,

Whereas, the Board adopts the findings and recommendations of the examiner's report, and finds that the requirements of the FTZ Act and the Board's regulations are satisfied;

Now, therefore, the Board hereby orders:

The application to reorganize FTZ 158 to expand the service area under the ASF is approved, subject to the FTZ Act and the Board's regulations, including Section 400.13, and to the Board's standard 2,000-acre activation limit for the zone.

Dated: August 6, 2021.
Christian B. Marsh,
Acting Assistant Secretary for Enforcement and Compliance, Alternate Chairman, Foreign-Trade Zones Board.

[FR Doc. 2021-17247 Filed 8-11-21; 8:45 am]

BILLING CODE 3510-DS-P